DEPARTMENT OF THE INTERIOR

National Park Service

[NPS-WASO-NRNHL-24008; PPWOCRADI0, PCU00RP14.R50000]

National Register of Historic Places; Notification of Pending Nominations and Related Actions

AGENCY: National Park Service, Interior.

ACTION: Notice.

SUMMARY: The National Park Service is soliciting comments on the significance of properties nominated before August 12, 2017, for listing or related actions in the National Register of Historic Places.

DATES: Comments should be submitted by September 22, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before August 12, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Crawford County

Pernot, Henry “Harry” Charles, House, 119 Fayetteville Rd., Van Buren, SG100001646

Crittenden County

Johnson—Portis House, 400 N. Avalon St., West Memphis, SG100001648

Faulkner County

Scull Historic District, 428 & 432 Conway Blvd., Conway, SG100001647

Jefferson County

Bain, Jewel, House No. 4, 27 Longmeadow, Pine Bluff, SG100001649

Montgomery County

Arkansas Research and Test Station (ARTS), Address Restricted, addo Gap vicinity, SG100001650

Pulaski County

Kennedy, Dr. Charles H., House, 6 Edenwood Ln., North Little Rock, SG100001651

West—Blazer House, 8107 Peters Rd., Jacksonville, SG100001652

IDAHO

Latah County

Fort Russell Neighborhood Historic District (Boundary Increase), Roughly bounded by Jefferson, E. D, Hays & E. 3rd Sts., Moscow, BC100001654

MISSOURI

Jackson County

Kansas City Public Library and Board of Education Building, 1211 McGee St., Kansas City, SG100001350

OHIO

Cuyahoga County

Erieview Tower, 1322 E. 12th St., Cleveland, SG100001655

VERMONT

Windsor County

Advent Camp Meeting Grounds Historic District, 150 Advent Ln., Hartford, SG100001656

WISCONSIN

Brown County

St. Norbert College Historic District, Bounded by Grant & Marsh Sts., Lee J. Roemer Mall & W. shore of Fox R. De Pere, SG100001658

A request for removal has been made for the following resource:

VIRGINIA

Isle of Wight County

Wolftrap Farm, NW of Smithfield off VA 627, Smithfield vicinity, OT74002132

Additional documentation has been received for the following resource:

IDAHO

Idaho County

Yawwinma Traditional Cultural Property, 143 Rapid River Rd., Riggins vicinity, AD100001053

Authority: 60.13 of 36 CFR part 60.

Dated: August 15, 2017.
J. Paul Loether,
Chief, National Register of Historic Places/National Historic Landmarks Program and Keeper, National Register of Historic Places.

[FR Doc. 2017-18921 Filed 9-6-17; 8:45 am]

BILLING CODE 4312-52-P